DEPARTMENT OF AGRICULTURE

Rural Utilities Service

[Docket #: RUS-25-ELECTRIC-0035]

Notice of Revision of a Currently Approved Information Collection

AGENCY: Rural Utilities Service, USDA.

ACTION: Notice; request for comments.

SUMMARY: In accordance with the Paperwork Reduction Act of 1995, the Rural Utilities Service (RUS or Agency), an agency within the United States Department of Agriculture (USDA), Rural Development (RD), announces its intention to request a revision to a currently approved information collection package for the RUS Electric Loan programs. The Agency invites comments on this information collection for which it intends to request approval from the Office of Management and Budget (OMB).

DATES: Comments on this notice must be received by October 17, 2025 to be assured of consideration.

FOR FURTHER INFORMATION CONTACT: Adyam Negasi, RD Innovation Center—Regulations Management Division, U.S. Department of Agriculture, 1400 Independence Avenue SW, Washington, DC 20250, Telephone: 202-211-9298, email: adyam.negasi@usda.gov.

SUPPLEMENTARY INFORMATION: The OMB regulation (5 CFR part 1320) implementing provisions of the Paperwork Reduction Act of 1995 (Pub. L. 104-13) requires that interested members of the public and affected agencies have an opportunity to comment on information collection and recordkeeping activities (see 5 CFR 1320.8(d)). This notice identifies an information collection that the Agency is submitting to OMB for revision.

Comments are invited on (a) whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be submitted electronically by the Federal eRulemaking Portal, regulations.gov. In the “Search for dockets and documents on agency actions” box enter the Docket No. RUS-25-ELECTRIC-0035 and click the “Search” button. From the search results, click on or locate the document title: “Notice of Revision of a Currently Approved Information Collection” and select the “Comment” button. Before inputting comments, commenters may review the “Commenter's Checklist” (optional). To submit a comment: Insert comments under the “Comment” title, click “Browse” to attach files (if available), input email address, select box to opt to receive email confirmation of submission and tracking (optional), select the box “I'm not a robot,” and then select “Submit Comment.” Information on using Regulations.gov, including instructions for accessing documents, submitting comments, and viewing the docket after the close of the comment period, is available through the site's “FAQ” link. All comments will be available for public inspection online at the Federal eRulemaking Portal (regulations.gov).

A federal agency may not conduct or sponsor, and a person is not required to respond to, nor shall a person be subject to a penalty for failure to comply with a collection of information subject to the requirements of the Paperwork Reduction Act unless that collection of information displays a currently valid OMB Control Number. Data furnished by the applicants will be used to determine eligibility for program benefits. Furnishing the data is voluntary; however, failure to provide data could result in program benefits being withheld or denied.

Title: Request for Approval to Sell Capital Assets.

OMB Control Number: 0572-0020.

Type of Request: Revision of a currently approved information collection.

Abstract: The RUS is a credit agency of the USDA. It makes mortgage loans and loan guarantees to finance electric, telecommunications, and water and waste facilities in rural areas. In addition to providing loans and loan guarantees, one of the Agency's main objectives is to safeguard loan security until the loan is repaid. When a borrower enters into the mortgage agreement with the Agency, all current and future capital assets of the borrower are ordinarily mortgaged or pledged to the Federal Government as security for Agency loans. The Agency's policy on sales of capital assets requires that the sale meet several requirements including the following: (1) the selling price shall be greater than or equal to the fair market value; and (2) the sale shall not jeopardize the repayment of the Agency's loan.

The selling of assets reduces the security and increases the risk to the government. RUS Form 369 allows the borrower to seek agency permission to sell some of its assets. The form collects detailed information regarding the proposed sales of a portion of the borrower's systems. RUS electric utility borrowers complete this form to request RUS approval in order to sell capital assets when the fair market value exceeds 10 percent of the borrower's net utility plant.

Estimate of Burden: Public reporting burden for this collection of information is estimated to average 2.074 hours per response.

Respondents: Nonprofit corporations and institutions of higher education.

Estimated Number of Respondents: 35.

Estimated Number of Responses per Respondent: 2.31.

Estimated Number of Responses: 81.

Estimated Total Annual Burden on Respondents: 168 hours.

Copies of this information collection can be obtained from Adyam Negasi, RD Innovation Center—Regulations Management Division, Telephone: 202-211-9298, email: adyam.negasi@usda.gov.

All responses to this notice will be summarized and included in the request for OMB approval. All comments will also become a matter of public record.

Karl Elmshaeuser,
Administrator, Rural Utilities Service, USDA Rural Development.

[FR Doc. 2025-15617 Filed 8-15-25; 8:45 am]

BILLING CODE 3410-15-P